DEPARTMENT OF DEFENSE

Department of the Navy

Meeting of the Chief of Naval Operations (CNO) Executive Panel

AGENCY: Department of the Navy, DoD.

ACTION: Notice of closed meeting.

SUMMARY: The CNO Executive Panel will provide consensus advice to the Chief of Naval Operations on the Navy's role in future joint operating concepts and receive CNO direction regarding future studies to be conducted by the Panel.

DATES: The meetings will be held on Thursday, November 13, 2003, and Friday, November 14, 2003, from 9 a.m. to 4:30 p.m.

ADDRESSES: The meetings will be held at the Center for Naval Analyses Boardroom, 4825 Mark Center Drive, Alexandria, VA 22311-1846.

FOR FURTHER INFORMATION CONTACT: Commander David Hughes, CNO Executive Panel, 4825 Mark Center Drive, Alexandria, Virginia 22311, (703) 681-4908 or CDR Jonathan Huggins, CNO Executive Panel, (703) 681-6207.

SUPPLEMENTARY INFORMATION: Pursuant to the provisions of the Federal Advisory Committee Act (5 U.S.C. App. 2), these matters constitute classified information that is specifically authorized by Executive Order to be kept secret in the interest of national defense and are, in fact, properly classified pursuant to such Executive Order.

Accordingly, the Secretary of the Navy has determined in writing that the public interest requires that all sessions of the meeting be closed to the public because they will be concerned with matters listed in section 552b(c)(1) of title 5, United States Code.

Dated: October 23, 2003.
S.K. Melancon,
Paralegal Specialist, Office of the Judge Advocate General, Alternate Federal Register Liaison Officer.

[FR Doc. 03-27423 Filed 10-30-03; 8:45 am]

BILLING CODE 3810-FF-P